FEDERAL COMMUNICATIONS COMMISSION

Information Collection Being Reviewed by the Federal Communications Commission Under Delegated Authority

AGENCY: Federal Communications Commission.

ACTION: Notice and request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before January 13, 2012. If you anticipate that you will be submitting PRA comments, but find it difficult to do so within the period of time allowed by this notice, you should advise the FCC contact listed below as soon as possible.

ADDRESSES: Submit your PRA comments to Nicholas A. Fraser, Office of Management and Budget, via fax at (202) 395-5167 or via Internet at Nicholas_A._Fraser@omb.eop.gov and to Judith B. Herman, Federal Communications Commission, via the Internet at judith-b.herman@fcc.gov. To submit your PRA comments by Email, send them to: PRA@fcc.gov.

FOR FURTHER INFORMATION CONTACT: Judith B. Herman, Office of Managing Director, (202) 418-0214.

SUPPLEMENTARY INFORMATION:

OMB Control Number: 3060-0755.

Title: Sections 59.1 through 59.4, Infrastructure Sharing.

Form Number: N/A.

Type of Review: Extension of a currently approved collection.

Respondents: Business or other for-profit entities.

Number of Respondents: 75 respondents; 1,125 responses.

Estimated Time per Response: 1-2 hours.

Frequency of Response: On occasion reporting requirement and third party disclosure requirement.

Obligation to Respond: Required to obtain or retain benefits. Statutory authority for this information collection is contained in 47 U.S.C. Section 259 of the Communications Act of 1934, as amended.

Total Annual Burden: 2,025 hours.

Total Annual Cost: N/A.

Privacy Impact Assessment: N/A.

Nature and Extent of Confidentiality: The Commission is not requesting respondents to submit confidential information to the Commission. If the Commission requests respondents submit information which respondents believe is confidential, respondents may request confidential treatment of such data under 47 CFR 0.459 of the Commission's rules.

Needs and Uses: The Commission is seeking an extension of this information collection in order to obtain the full three year approval from OMB. The Commission will submit this information collection to the OMB after this comment period. There are no changes in any of the reporting and third party disclosure requirements. The Commission is reporting a 150 hour adjustment decrease in burden which is due to fewer responses.

The three reporting and third party disclosure requirements are under section 259 of the Communications Act of 1934, as amended. They are (1) Filing of tariffs, contracts or arrangements; (2) information concerning deployment of new services and equipment; and (3) notice upon termination of section 259 agreements.

The information collections by the Commission will under the requirement that incumbent LECs file any tariffs, contracts and agreements for infrastructure sharing will be made available for public inspection. Under the requirement that LECs provide timely information on planned deployments of new services and equipment is provided to third parties (qualifying carriers). And, under the requirement that providing incumbent LECs furnish 60 day notice prior to termination of a section 259 sharing agreement is provided to third parties (qualifying carriers) to protect customers from sudden changes in service.

Federal Communications Commission.
Bulah P. Wheeler,
Deputy Manager, Office of the Secretary, Office of Managing Director.

[FR Doc. 2011-29283 Filed 11-10-11; 8:45 am]

BILLING CODE 6712-01-P